DEPARTMENT OF THE INTERIOR

National Park Service

[NPS-WASO-NRNHL-10699; 2200-3210-665]

Meeting of the Cold War Advisory Committee for the Cold War Theme Study

AGENCY: National Park Service, Interior.

ACTION: Notice of meeting.

SUMMARY: Notice is hereby given in accordance with the Federal Advisory Committee Act, 5 U.S.C. Appendix, that the Cold War Advisory Committee for the Cold War Theme Study will conduct a teleconference meeting on August 3, 2012. Members of the public may attend the meeting in person in Washington, DC. During this teleconference, the Committee will make recommendations to the National Park Service (NPS) concerning the Cold War Theme Study.

DATES: The teleconference meeting will be held on August 3, 2012, from 2 p.m. to 3 p.m., Eastern Daylight Time, inclusive.

Location: The teleconference meeting will be conducted in Meeting Room 801 of the National Park Service, 1201 Eye Street NW., Washington, DC 20005, telephone 202-354-6906.

Agenda: The agenda for the meeting to be held on August 3, 2012 from 2 p.m. to 3 p.m. is as follows:

1. Discussion of the Cold War Theme Study

2. Discussion of the Cold War Bibliography

3. Discussion of potential sites to be nominated under the Cold War Theme Study

FOR FURTHER INFORMATION CONTACT: For information concerning the Cold War Advisory Committee for the Cold War Theme Study or to request to address the Committee, contact Dr. Alexandra M. Lord, Branch Chief, National Historic Landmarks Committee, National Park Service, 1201 I Street NW., 8th Floor, Washington, DC 20005, telephone 202-354-6906, email alexandra_lord@nps.gov.

SUPPLEMENTARY INFORMATION: Due to the limited scope of this meeting, the NPS has determined that a teleconference will be the most efficient way to convene the Committee members. The Committee meeting will be open to the public in the same way that other Committee meetings have been open to the public. Space and facilities to accommodate the public are limited and attendees will be accommodated on a first-come basis. Opportunities for oral comment will be limited to no more than 3 minutes per speaker and no more than 15 minutes total. The Committee's Chairman will determine how time for oral comments will be allotted. Anyone may file a written statement with the Committee concerning matters to be discussed. Before including your address, phone number, email address, or other personal identifying information in your comment, you should be aware that your entire comment—including your personal identifying information—may be made publicly available at any time. While you can ask us in your comment to withhold your personal identifying information from public review, we cannot guarantee that we will be able to do so.

Draft minutes of the meeting will be available for public inspection about 12 weeks after the meeting in the 8th floor conference room at 1201 I Street NW., Washington, DC.

Dated: July 6, 2012.
J. Paul Loether,
Chief, National Register of Historic Places/National Historic Landmarks Program.

[FR Doc. 2012-17806 Filed 7-20-12; 8:45 am]

BILLING CODE 4312-51-P